DEPARTMENT OF ENERGY

Request for Comments on Helium-3 Use in the Oil and Natural Gas Well Logging Industry

AGENCY: Office of Fossil Energy, Department of Energy.

ACTION: Request for Comments.

SUMMARY: The Department of Energy (DOE) Office of Oil and Natural Gas is seeking public comments on the volumes and uses of Helium-3 by the oil and gas well logging industry.

DATES: Written comments and information are requested on or before 5 p.m. Eastern time on February 1, 2011.

ADDRESSES: Interested persons may submit information by any of the following methods:

Federal eRulemaking Portal: http://www.regulations.gov. Follow the instructions for submitting comments.

E-mail: Edith.Allison@hq.doe.gov. Include “Helium-3 Request for Comments” in the subject line of the message.

Postal Mail: Edith Allison, U.S. Department of Energy, Office of Fossil Energy, Office of Oil and Natural Gas, Room 3E-028, 1000 Independence Avenue, SW., Washington, DC 20585-0121. Please submit one signed paper original.

FOR FURTHER INFORMATION CONTACT: Ms. Edith Allison, U.S. Department of Energy, Office of Oil and Natural Gas, Edith.Allison@hq.doe.gov.

SUPPLEMENTARY INFORMATION: DOE Office of Oil and Natural Gas is responsible for allotting 1,000 liters of Helium-3 for use by the well logging industry in Fiscal Year (FY) 2011 and for projecting the FY 2012 Helium-3 needs so that an industry allotment can be set aside for FY 2012. The Office of Oil and Natural Gas seeks information to improve its understanding of the need for Helium-3 and the diversity of the user community so that it can tailor its allocation process to best support the efficient domestic production of oil and natural gas.

Background:

Helium-3 is a non-radioactive isotope of Helium that is a byproduct of the decay of Tritium. Its main use is for neutron detection devices used in scientific research, national security and oil and gas well logging. The US helium-3 stockpile, which is held by the DOE, is not adequate to meet the current demand. Therefore, DOE is considering an allotment process.

Allotment Process Considerations:

In developing its allotment process, DOE seeks information on the uses of Helium-3 by members of the oil and gas well logging industry. DOE seeks information, for example, on whether companies manufacture neutron detectors used by the well logging industry or wireline or Logging-While-Drilling tools incorporating neutron detectors, and whether companies purchase or lease logging tools that contain neutron detectors.

DOE also seeks information on the volumes of Helium-3 anticipated by the oil and gas well logging industry during the 2-year allotment under consideration by DOE. DOE seeks information on estimates of oil and gas required by companies for fiscal years 2011 (October 1, 2010 through September 30, 2011) and 2012 (October 1, 2011 through September 30, 2012).

DOE also seeks information on the recycling and reclamation of Helium-3 gas. DOE understands that Helium-3 gas can be recycled or reclaimed from many inoperable neutron detectors. DOE seeks information on whether companies plan to reclaim Helium-3 from malfunctioning devices and if so, how much Helim-3 companies anticipate reclaiming.

In allotting Helium-3, DOE would expect to give preference to devices for use in the United States. Therefore, DOE seeks information on how much companies' expected Helium-3 will be for devices used outside the United States.

Further Information on Submitting Information:

According to 10 CFR 1004.11, any person submitting information that he or she believes to be confidential and exempt by law from public disclosure should submit two copies: One copy of the document including all the information believed to be confidential and one copy of the document with the information believed to be confidential deleted. DOE will make its own determination as to the confidential status of the information and treat it according to its determination.

Factors of interest to DOE when evaluating requests to treat submitted information as confidential include (1) A description of the items; (2) whether and why such items are customarily treated as confidential within the industry; (3) whether the information is generally known by or available from other sources; (4) whether the information has previously been made available to others without obligation concerning its confidentiality; (5) an explanation of the competitive injury to the submitting person which would result from public disclosure; (6) a date upon which such information might lose its confidential nature due to the passage of time; and (7) why disclosure of the information would be contrary to the public interest.

Issued in Washington, DC, on November 30, 2010.
Christopher A. Smith,
Deputy Assistant Secretary for Oil and Natural Gas.

[FR Doc. 2010-30632 Filed 12-6-10; 8:45 am]

BILLING CODE 6450-01-P